DEPARTMENT OF HEALTH AND HUMAN SERVICES

Administration for Children and Families

Submission for OMB Review; Evaluation of the National Human Trafficking Hotline Program (New Collection)

AGENCY: Office of Planning, Research, and Evaluation; Administration for Children and Families; HHS.

ACTION: Request for public comment.

SUMMARY: The Office of Planning, Research, and Evaluation (OPRE) is proposing a data collection activity as part of the Evaluation of the National Human Trafficking Hotline (NHTH) Program. This data collection activity will examine the experiences of individuals who seek assistance from the NHTH after their interactions with the NHTH. The study will collect information via voluntary phone and Web-based surveys at two time points: (1) Immediately after an individual has contacted the NHTH by phone, text, or live online chat; and (2) two weeks later.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The purpose of the proposed data collection activity is to document and examine the following: Why individuals contact the NHTH; hotline users' perceptions of hotline staff's knowledge and skills; the extent to which users felt their interaction was helpful, they were supported by the NHTH, they were satisfied with the NHTH, and their needs were met by the interaction; and outcomes from NHTH interactions (e.g., users' knowledge and use of available resources and referrals). The proposed data collection activity includes a two-phase approach to obtain information from individuals after their contact (via phone, text, or live online chat) with the NHTH. The proposed information collection activities are (1) an integrated voice response telephone survey or Web-based survey immediately after NHTH contact; and (2) a telephone or Web-based survey approximately two weeks after completion of the first survey. The survey immediately after contact with the NHTH will be offered to all individuals who contact the NHTH during the data collection period and includes questions focused on users' experiences and satisfaction with their NHTH interaction. The follow-up survey will be administered two weeks later with a sample of respondents who completed the immediate survey and consented to be contacted two weeks later. This second survey includes questions focused on the extent to which NHTH users were satisfied with their NHTH contact and felt that the NHTH contact was helpful.

Respondents: Individuals who contact the NHTH by telephone, text, or live online chat.

Annual Burden Estimates
Instrument | Total/annual number of respondents | Number of responses per respondent | Average burden hours per response | Annual burden hours
Immediate Follow-Up Survey | 2,000 | 1 | .12 | 240
2-Week Follow-Up Survey | 310 | 1 | .15 | 47

Estimated Total Annual Burden Hours: 247.

Authority: Section 105(d)(2) of the Trafficking Victims Protection Act of 2000 (TVPA) (Pub. L. 106-386) § 105 [22 U.S.C. 7103].

Mary B. Jones,
ACF/OPRE Certifying Officer.

[FR Doc. 2019-25059 Filed 11-18-19; 8:45 am]

BILLING CODE 4184-47-P